DEPARTMENT OF ENERGY

Federal Energy Regulatory Commission

Combined Notice of Filings No. 2

March 31, 2010.

Take notice that the Commission has received the following Natural Gas Pipeline Rate and Refund Report filings:

Docket Numbers: RP08-426-013.

Applicants: El Paso Natural Gas Company.

Description: El Paso Natural Gas Company submits Thirty-Second Revised Sheet 28 et al. to its FERC Gas Tariff, Second Revised Volume 1A, to be effective 5/1/10.

Filed Date: 03/25/2010.

Accession Number: 20100329-0209.

Comment Date: 5 p.m. Eastern Time on Tuesday, April 06, 2010.

Docket Numbers: RP10-481-001.

Applicants: Eastern Shore Natural Gas Company.

Description: Eastern Shore Natural Gas Company submits FERC Gas Tariff, Second Revised Volume 1 of Sub 71st Revised Sheet 7, to be effective 4/1/10.

Filed Date: 03/25/2010.

Accession Number: 20100325-0227.

Comment Date: 5 p.m. Eastern Time on Tuesday, April 06, 2010.

Docket Numbers: RP10-271-001. RP10-350-001.

Applicants: Southern LNG, Inc.

Description: Southern LNG, Inc submits Substitute Original Sheet No 32E et al., to be effective 3/1/2010.

Filed Date: 03/29/2010.

Accession Number: 20100330-0205.

Comment Date: 5 p.m. Eastern Time on Monday, April 12, 2010.

Docket Numbers: RP10-271-002; RP10-350-002.

Applicants: Southern LNG, Inc.

Description: Southern LNG, Inc submits SLNG-1 Service Agreement No SLNG11 dated 5/27/03 and SLNG-3 Service Agreement No SLNG25 dated 10/5/07.

Filed Date: 03/29/2010.

Accession Number: 20100330-0204.

Comment Date: 5 p.m. Eastern Time on Monday, April 12, 2010.

Docket Numbers: RP10-342-001.

Applicants: Elba Express Company, LLC.

Description: Elba Express Company, LLC submits Substitute Original Sheet 143 et al. to FERC Gas Tariff, Original Volume 1, to be effective 3/1/10.

Filed Date: 03/29/2010.

Accession Number: 20100330-0203.

Comment Date: 5 p.m. Eastern Time on Monday, April 12, 2010.

Docket Numbers: RP10-386-001.

Applicants: Elba Express Company, LLC.

Description: Elba Express Company, LLC submits EEC Service Agreement No EEC-1 dated 10/5/07 with Shell NA LNG LLC, to be effective 3/1/2010.

Filed Date: 03/29/2010.

Accession Number: 20100330-0202.

Comment Date: 5 p.m. Eastern Time on Monday, April 12, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern Time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-8610 Filed 4-14-10; 8:45 am]

BILLING CODE 6717-01-P